DEPARTMENT OF THE TREASURY

Internal Revenue Service

26 CFR Part 1

[TD 9836]

RIN 1545-BH62

Substantiation and Reporting Requirements for Cash and Noncash Charitable Contribution Deductions; Correction

AGENCY: Internal Revenue Service (IRS), Treasury.

ACTION: Correcting amendment.

SUMMARY: This document contains corrections to final regulations (TD 9836) that were published in the Federal Register on Monday, July 30, 2018. The final regulations provide guidance concerning substantiation and reporting requirements for cash and noncash charitable contributions.

DATES: This correction is effective September 11, 2018 and applicable July 30, 2018.

FOR FURTHER INFORMATION CONTACT: Charles Gorham at (202) 317-5091 (not a toll-free number).

SUPPLEMENTARY INFORMATION:

Background

The final regulations (TD 9836) that are the subject of this correction are under section 170 of the Internal Revenue Code.

Need for Correction

As published July 30, 2018 (83 FR 36417), the final regulations (TD 9836) contain an error that needs to be corrected.

List of Subjects in 26 CFR Part 1

Income taxes, Reporting and recordkeeping requirements.

Correction of Publication

Accordingly, 26 CFR part 1 is corrected by making the following correcting amendments:

PART 1—INCOME TAXES

Paragraph 1. The authority citation for part 1 continues to read in part as follows:

Authority: 26 U.S.C. 7805 * * *

Par. 2. Section 1.170A-1 is amended by revising the third sentence of paragraph (a) to read as follows:

§ 1.170A-1 Charitable, etc., contributions and gifts; allowance of deduction.

(a) * * * For rules relating to record keeping and return requirements in support of deductions for charitable contributions (whether by an itemizing or nonitemizing taxpayer), see §§ 1.170A-13 (generally applicable to contributions on or before July 30, 2018), 1.170A-14, 1.170A-15, 1.170A-16, 1.170A-17, and 1.170A-18. * * *

* * * * *

Martin V. Franks,
Chief, Publications and Regulations Branch, Legal Processing Division, Associate Chief Counsel (Procedure and Administration).

[FR Doc. 2018-19679 Filed 9-10-18; 8:45 am]

BILLING CODE 4830-01-P